DEPARTMENT OF ENERGY

Federal Energy Regulatory Commission

[Docket No. EL13-26-000]

Startrans IO, LLC; Notice of Initiation of Proceeding and Refund Effective Date

On December 31, 2012, the Commission issued an order that initiated a proceeding in Docket No. EL13-26-000, pursuant to section 206 of the Federal Power Act (FPA), 16 U.S.C. 824e (2006), to determine the justness and reasonableness of the proposed transmission revenue requirement rates by Startrans IO, LLC. Startrans IO, LLC, 141 FERC ¶ 61,271 (2012).

The refund effective date in Docket No. EL13-26-000, established pursuant to section 206(b) of the FPA, will be the date of publication of this notice in the Federal Register.

Dated: December 31, 2012.
Nathaniel J. Davis, Sr.,
Deputy Secretary.

[FR Doc. 2013-00405 Filed 1-10-13; 8:45 am]

BILLING CODE 6717-01-P